DEPARTMENT OF HOMELAND SECURITY

U.S. Citizenship and Immigration Services

[CIS No. 2762-23; DHS Docket No. USCIS-2022-0005]

RIN 1615-ZB95

Extension and Redesignation of Cameroon for Temporary Protected Status

AGENCY: U.S. Citizenship and Immigration Services (USCIS), Department of Homeland Security (DHS).

ACTION: Notice of Temporary Protected Status (TPS) extension and redesignation.

SUMMARY: Through this notice, the Department of Homeland Security (DHS) announces that the Secretary of Homeland Security (Secretary) is extending the designation of Cameroon for Temporary Protected Status (TPS) for 18 months, beginning on December 8, 2023, and ending on June 7, 2025. This extension allows existing TPS beneficiaries to retain TPS through June 7, 2025, so long as they otherwise continue to meet the eligibility requirements for TPS. Existing TPS beneficiaries who wish to extend their status through June 7, 2025, must re-register during the 60-day re-registration period described in this notice. The Secretary is also redesignating Cameroon for TPS. The redesignation of Cameroon allows additional Cameroonian nationals (and individuals having no nationality who last habitually resided in Cameroon) who have been continuously residing in the United States since October 5, 2023, to apply for TPS for the first time during the initial registration period described under the redesignation information in this notice. In addition to demonstrating continuous residence in the United States since October 5, 2023, and meeting other eligibility criteria, initial applicants for TPS under this designation must demonstrate that they have been continuously physically present in the United States since December 8, 2023, the effective date of this redesignation of Cameroon for TPS.

DATES:

Extension of Designation of Cameroon for TPS: The 18-month designation of Cameroon for TPS begins on December 8, 2023, and will remain in effect for 18 months, ending on June 7, 2025. The extension impacts existing beneficiaries of TPS.

Re-Registration: The 60-day re-registration period for existing beneficiaries runs from October 10, 2023 through December 11, 2023. (Note: It is important for re-registrants to timely re-register during the registration period and not to wait until their Employment Authorization Documents (EADs) expire, as delaying re-registration could result in gaps in their employment authorization documentation.)

Redesignation of Cameroon for TPS: The 18-month redesignation of Cameroon for TPS begins on December 8, 2023, and will remain in effect for 18 months, ending on June 7, 2025. The redesignation impacts potential first-time applicants and others who do not currently have TPS.

First-Time Registration: The initial registration period for new applicants under the Cameroon TPS redesignation begins on October 10, 2023 and will remain in effect through June 7, 2025.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 800-375-5283.

• For further information on TPS, including guidance on the registration process and additional information on eligibility, please visit the USCIS TPS web page at https://www.uscis.gov/tps. You can find specific information about Cameroon's TPS designation by selecting “Cameroon” from the menu on the left side of the TPS web page.

• If you have additional questions about TPS, please visit uscis.gov/tools. Our online virtual assistant, Emma, can answer many of your questions and point you to additional information on our website. If you are unable to find your answers there, you may also call our USCIS Contact Center at 800-375-5283 (TTY 800-767-1833).

• Applicants seeking information about the status of their individual cases may check Case Status Online, available on the USCIS website at uscis.gov, or visit the USCIS Contact Center at https://www.uscis.gov/contactcenter.

• Further information will also be available at local USCIS offices upon publication of this notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-131—Application for Travel Document

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TPS—Temporary Protected Status

TTY—Text Telephone

USCIS—U.S. Citizenship and Immigration Services

U.S.C.—United States Code

Purpose of This Action (TPS)

Through this notice, DHS sets forth procedures necessary for nationals of Cameroon (or individuals having no nationality who last habitually resided in Cameroon) to (1) re-register for TPS and to apply for renewal of their EADs with USCIS or (2) submit an initial registration application under the redesignation and apply for an EAD.

Re-registration is limited to individuals who have previously registered for TPS under the prior designation of Cameroon and whose applications have been granted. Failure to re-register properly within the 60-day re-registration period may result in the withdrawal of your TPS following appropriate procedures. See 8 CFR 244.14.

For individuals who have already been granted TPS under Cameroon's designation, the 60-day re-registration period runs from October 10, 2023 through December 11, 2023. USCIS will issue new EADs with a June 7, 2025, expiration date to eligible Cameroonian TPS beneficiaries who timely re-register and apply for EADs. Given the time frames involved with processing TPS re-registration applications, DHS recognizes that not all re-registrants may receive new EADs before their current EADs expire. Accordingly, through this Federal Register notice, DHS automatically extends the validity of certain EADs previously issued under the TPS designation of Cameroon through December 7, 2024. Therefore, as proof of continued employment authorization through December 7, 2024, TPS beneficiaries can show their EADs that have the notation A-12 or C-19 under Category and a “Card Expires” date of December 7, 2023. This notice explains how TPS beneficiaries and their employers may determine which EADs are automatically extended and how this affects the Form I-9, Employment Eligibility Verification, E-Verify, and USCIS Systematic Alien Verification for Entitlements (SAVE) processes.

Individuals who have a Cameroon TPS application (Form I-821) and/or Application for Employment Authorization (Form I-765) that was still pending as of October 10, 2023 do not need to file either application again. If USCIS approves an individual's pending Form I-821, USCIS will grant the individual TPS through June 7, 2025. Similarly, if USCIS approves a pending TPS-related Form I-765, USCIS will issue the individual a new EAD that will be valid through the same date. There are currently approximately 2,090 beneficiaries under Cameroon's TPS designation.

Under the redesignation, individuals who currently do not have TPS may submit an initial application during the initial registration period that runs from October 10, 2023 and runs through the full length of the redesignation period ending June 7, 2025. In addition to demonstrating continuous residence in the United States since October 5, 2023, and meeting other eligibility criteria, initial applicants for TPS under this redesignation must demonstrate that they have been continuously physically present in the United States since December 8, 2023,¹ the effective date of this redesignation of Cameroon, before USCIS may grant them TPS. DHS estimates that approximately 7,900 individuals may become newly eligible for TPS under the redesignation of Cameroon.

¹ The “continuous physical presence date” (CPP) is the effective date of the most recent TPS designation of the country, which is either the publication date of the designation announcement in the Federal Register or such later date as the Secretary may establish. The “continuous residence date” (CR) is any date established by the Secretary when a country is designated (or sometimes redesignated) for TPS. See INA sec. 244(b)(2)(A) (effective date of designation); 244(c)(1)(A)(i-ii) (CR and CPP date requirements); 8 U.S.C. 1254a(b)(2)(A); 1254a(c)(1)(A)(i-ii).

What Is Temporary Protected Status (TPS)?

• TPS is a temporary immigration status granted to eligible nationals of a foreign state designated for TPS under the INA, or to eligible individuals without nationality who last habitually resided in the designated foreign state, regardless of their country of birth.

• During the TPS designation period, TPS beneficiaries are eligible to remain in the United States, may not be removed, and are authorized to obtain EADs so long as they continue to meet the requirements of TPS.

• TPS beneficiaries may also apply for and be granted travel authorization as a matter of DHS discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, as long as it is still valid beyond the date TPS terminates.

When was Cameroon designated for TPS?

Cameroon was initially designated on the basis of ongoing armed conflict and extraordinary and temporary conditions in Cameroon that prevented nationals of Cameroon from returning in safety. See Designation of Nationals of Cameroon for Temporary Protected Status, 87 FR 34706 (June 7, 2022).

What authority does the Secretary have to extend the designation of Cameroon for TPS?

Section 244(b)(1) of the INA, 8 U.S.C. 1254a(b)(1), authorizes the Secretary, after consultation with appropriate agencies of the U.S. Government, to designate a foreign state (or part thereof) for TPS if the Secretary determines that certain country conditions exist.² The decision to designate any foreign state (or part thereof) is a discretionary decision, and there is no judicial review of any determination with respect to the designation, termination, or extension of a designation. See INA sec. 244(b)(5)(A), 8 U.S.C. 1254a(b)(5)(A). The Secretary, in his or her discretion, may then grant TPS to eligible nationals of that foreign state (or individuals having no nationality who last habitually resided in the designated foreign state). See INA sec. 244(a)(1)(A), 8 U.S.C. 1254a(a)(1)(A).

² INA section 244(b)(1) ascribes this power to the Attorney General. Congress transferred this authority from the Attorney General to the Secretary of Homeland Security. See Homeland Security Act of 2002, Public Law 107-296, 116 Stat. 2135 (2002). The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. INA sec. 244(b)(1); 8 U.S.C. 1254a(b)(1).

At least 60 days before the expiration of a foreign state's TPS designation or extension, the Secretary, after consultation with appropriate U.S. Government agencies, must review the conditions in the foreign state designated for TPS to determine whether they continue to meet the conditions for the TPS designation. See INA sec. 244(b)(3)(A), 8 U.S.C. 1254a(b)(3)(A). If the Secretary determines that the foreign state continues to meet the conditions for TPS designation, the designation will be extended for an additional period of 6 months or, in the Secretary's discretion, 12 or 18 months. See INA sec. 244(b)(3)(A), (C), 8 U.S.C. 1254a(b)(3)(A), (C). If the Secretary determines that the foreign state no longer meets the conditions for TPS designation, the Secretary must terminate the designation. See INA sec. 244(b)(3)(B), 8 U.S.C. 1254a(b)(3)(B).

What is the Secretary's authority to redesignate Cameroon for TPS?

In addition to extending an existing TPS designation, the Secretary, after consultation with appropriate Government agencies, may redesignate a country (or part thereof) for TPS. See INA sec. 244(b)(1), 8 U.S.C. 1254a(b)(1); see also INA sec. 244(c)(1)(A)(i), 8 U.S.C. 1254a(c)(1)(A)(i) (requiring that “the alien has been continuously physically present since the effective date of the most recent designation of the state”) (emphasis added).³

³ The extension and redesignation of TPS for Cameroon is one of several instances in which the Secretary and, prior to the establishment of DHS, the Attorney General, have simultaneously extended a country's TPS designation and redesignated the country for TPS. See, e.g., Extension and Redesignation of Haiti for Temporary Protected Status, 76 FR 29000 (May 19, 2011); Extension and Re-designation of Temporary Protected Status for Sudan, 69 FR 60168 (Oct. 7, 2004); Extension of Designation and Redesignation of Liberia Under Temporary Protected Status Program, 62 FR 16608 (Apr. 7, 1997).

When the Secretary designates or redesignates a country for TPS, the Secretary also has the discretion to establish the date from which TPS applicants must demonstrate that they have been “continuously resid[ing]” in the United States. See INA sec. 244(c)(1)(A)(ii), 8 U.S.C. 1254a(c)(1)(A)(ii). The Secretary has determined that the “continuous residence” date for applicants for TPS under the redesignation of Cameroon shall be October 5, 2023. Initial applicants for TPS under this redesignation must also show they have been “continuously physically present” in the United States since December 8, 2023, which is the effective date of the Secretary's redesignation of Cameroon. See INA sec. 244(c)(1)(A)(i), 8 U.S.C. 1254a(c)(1)(A)(i). For each initial TPS application filed under the redesignation, the final determination of whether the applicant has met the “continuous physical presence” requirement cannot be made until December 8, 2023, the effective date of this redesignation for Cameroon. USCIS, however, will issue employment authorization documentation, as appropriate, during the registration period in accordance with 8 CFR 244.5(b).

Why is the Secretary extending the TPS designation for Cameroon and simultaneously redesignating Cameroon for TPS through June 7, 2025?

DHS has reviewed country conditions in Cameroon. Based on the review, including input received from DOS and other U.S. Government agencies, the Secretary has determined that an 18-month TPS extension is warranted because ongoing armed conflict and extraordinary and temporary conditions supporting Cameroon's TPS designation remain. The Secretary has further determined that redesignating Cameroon for TPS under INA section 244(b)(3)(C), 8 U.S.C. 1254a(b)(3)(C) is warranted and is changing the “continuous residence” and “continuous physical presence” dates that applicants must meet to be eligible for TPS. The “continuous residence” date now being October 5, 2023, and the “continuous physical presence” date now being December 8, 2023, the effective date of this redesignation of Cameroon for TPS.

Overview

Since 2014, ongoing armed conflict between the Government of Cameroon and nonstate armed groups in the Far North Region, specifically Boko Haram and the Islamic State West Africa Province (ISWAP), has resulted in killings, kidnappings, displacement, and destruction of civilian infrastructure. While battling these nonstate armed groups, the Government of Cameroon is also attempting to control the continuing secessionist crisis in the Northwest and Southwest Regions. Extraordinary and temporary conditions, including the secessionist crisis, human rights abuses by members of armed groups and forces, food insecurity, spread of disease, and mass displacement continue to prevent Cameroonian nationals (and those who last habitually resided in Cameroon) from returning to Cameroon in safety.

Scale and Impact of Conflict and Other Violence

In 2014, Boko Haram launched its first attacks in the Far North Region of Cameroon, and in 2015, a splinter group ISWAP established itself as a highly active and violent Islamic State affiliate.⁴ Cameroon continues to face serious attacks by Boko Haram and ISWAP in the Far North Region.⁵ Recent, large-scale attacks by Boko Haram have resulted in civilian and soldier deaths, the destruction of hundreds of homes, and the looting of shops, markets, ranches, and farms.⁶ A separate attack that killed two civilians also forced the closure of a Far North hospital for several months, preventing thousands of people from accessing health services.⁷ Boko Haram has also continued to abduct children for use as child soldiers or suicide bombers.⁸ Earlier this year, ISWAP reportedly abducted 20 fishermen in the Far North Region after they refused to pay taxes levied by the group, and in another incident, ISWAP militants attacked a military outpost and stole military equipment.⁹

⁴ Cameroon: Confronting Boko Haram, International Crisis Group, Nov. 16, 2016, available at https://www.crisisgroup.org/africa/central-africa/cameroon/cameroon-confronting-boko-haram (last visited July 12, 2023); Facing the Challenge of the Islamic State in West Africa Province, International Crisis Group, May 16, 2019, available at https://www.crisisgroup.org/africa/west-africa/nigeria/273-facing-challenge-islamic-state-west-africa-province (last visited July 12, 2023); and Boko Haram and the Islamic State West Africa Province, Congressional Research Service, Feb. 24, 2022, available at https://sgp.fas.org/crs/row/IF10173.pdf.

⁵ Cameroon says military deployed after new militant attack kills at least a dozen, VOA, Aug. 3, 2023, available at https://www.voanews.com/a/cameroon-says-military-deployed-after-boko-haram-attack/7210055.html (last visited Sept. 26, 2023); Cameroon asks for more border troops after new Boko Haram attacks, VOA, May 31, 2023, available at https://www.voanews.com/a/cameroon-asks-for-more-border-troops-after-new-boko-haram-attacks/7116890.html (last visited Sept. 26, 2023); Children and armed conflict; Report of the Secretary-General [A/77/895-S/2023/363], UN General Assembly, UN Security Council, June 5, 2023, available at https://childrenandarmedconflict.un.org/document/secretary-general-annual-report-on-children-and-armed-conflict-2/; Cameroon: Events of 2022, Human Rights Watch, available at https://www.hrw.org/world-report/2023/country-chapters/cameroon (last visited July 3, 2023).

⁶ Cameroon's Large-Scale Boko Haram Attacks Leave Thousands Homeless, VOA News, April 19, 2023, available at https://www.voanews.com/a/cameroon-s-large-scale-boko-haram-attacks-leave-thousands-homeless-/7057215.html (last visited June 30, 2023).

⁷ Cameroon, Amnesty International, available at https://www.amnesty.org/en/location/africa/west-and-central-africa/cameroon/report-cameroon/ (last visited July 3, 2023).

⁸ U.S. Dep't of State, 2023 Trafficking in Persons Report: Cameroon, June 15, 2023, available at https://www.state.gov/reports/2023-trafficking-in-persons-report/cameroon/ (last visited Sept. 26, 2023); U.S. Dep't of State, 2022 Country Report on Human Rights Practices: Cameroon (Mar. 20, 2023), available at https://www.state.gov/reports/2022-country-reports-on-human-rights-practices/cameroon/ (last visited July 12, 2023).

⁹ The situation in Central Africa and the activities of the United Nations Regional Office for Central Africa; Report of the Secretary-General [S/2023/389], U.N. Security Council, May 21, 2023, available at https://www.ecoi.net/en/file/local/2093063/N2313778.pdf.

The Far North has also seen violence between fishing, farming, and herding communities vying for limited natural resources that have been dwindling in the Lake Chad Basin region due to climate change.¹⁰ While such clashes are not new, the increasing use and accessibility of firearms due to the presence of Boko Haram and ISWAP has escalated violence and displacement.¹¹ Overall, the confluence of intercommunal violence, presence of militant groups, and increased competition over natural resources has resulted in widespread humanitarian distress including frequent thefts, destruction of property, physical attacks, extortions, murders, and kidnappings.¹²

¹⁰ Conflict Analysis in Lake Chad Basin 2020-2021, U.N. Development Programme, Aug. 4, 2022, available at https://www.undp.org/sites/g/files/zskgke326/files/2022-08/Conflict%20Analysis%20in%20the%20Lake%20Chad%20Basin.pdf.

¹¹ Violent Extremism in the Sahel, Center for Preventive Action, March 27, 2023, available at https://www.cfr.org/global-conflict-tracker/conflict/violent-extremism-sahel (last visited July 6, 2023).

¹² Cameroon Humanitarian Needs Overview 2023 (March 2023), U.N. Office for the Coordination of Humanitarian Affairs (OCHA), May 11, 2023, available at https://reliefweb.int/report/cameroon/cameroon-humanitarian-needs-overview-2023-march-2023 (last visited July 6, 2023).

Crisis in the Northwest & Southwest Regions

Cameroon is a majority French-speaking (Francophone) nation with two majority English-speaking (Anglophone) regions.¹³ The country continues to face a secessionist insurgency in the Anglophone areas: Northwest Region and Southwest Region.¹⁴

¹³ A Second Look at Cameroon's Anglophone Special Status, International Crisis Group, March 31, 2023, available at https://www.crisisgroup.org/africa/central-africa/cameroon/b188-second-look-cameroons-anglophone-special-status (last visited June 30, 2023).

¹⁴ A Second Look at Cameroon's Anglophone Special Status, International Crisis Group, March 31, 2023, available at https://www.crisisgroup.org/africa/central-africa/cameroon/b188-second-look-cameroons-anglophone-special-status (last visited June 30, 2023).

Anglophone separatists continue to commit human rights abuses against both government forces and civilians, engaging in killings, kidnappings, and other means of forceful control over large parts of the Anglophone regions.¹⁵ Separatists have restricted the movement of persons and goods in the areas under their control, “sometimes in a deliberate attempt to harass and intimidate the local population,” and often use weekly lockdowns called “ghost towns” during which all businesses, schools, and places of worship must close.¹⁶ 30 women were reportedly abducted by separatists in May 2023 after participating in peaceful protests against separatist violence and taxes, with some of the women tortured, beaten, and shot.¹⁷ Separatist groups have targeted civilian infrastructure and their violence has acutely impacted on access to education.¹⁸ More than half of the schools in the Northwest and Southwest regions remain closed for the 2022-2023 school year, according to the United Nations.¹⁹ Armed groups have also attacked health care facilities, including an attack against a hospital in June 2022 that deprived 85,000 people of access to health care.²⁰

¹⁵ Cameroon, Global Center for the Responsibility to Protect, May 31, 2023, available at https://www.globalr2p.org/countries/cameroon/ (last visited July 3, 2023).

¹⁶ U.S. Dep't of State, 2022 Country Reports on Human Rights Practices: Cameroon, May 21, 2023, available at https://www.state.gov/reports/2022-country-reports-on-human-rights-practices/cameroon/ (last visited July 3, 2023).

¹⁷ Atrocity Alert No. 349: Ukraine, Cameroon and Afghanistan, Reliefweb, May 31, 2023, available at https://reliefweb.int/report/afghanistan/atrocity-alert-no-349-ukraine-cameroon-and-afghanistan (last visited July 13, 2023).

¹⁸ Cameroon: Events of 2022, Human Rights Watch, 2023, available at https://www.hrw.org/world-report/2023/country-chapters/cameroon (last visited July 3, 2023).

¹⁹ UNICEF Education Case Study: Cameroon, July 2023, last visited October 1, 2023. https://www.unicef.org/media/141551/file/Learning%20where%20it%20is%20difficult%20to%20learn:%20Radio%20programmes%20help%20keep%20children%20learning%20in%20Cameroon.pdf.

²⁰ Cameroon: Events of 2022, Human Rights Watch, 2022, available at https://www.hrw.org/world-report/2023/country-chapters/cameroon (last visited July 3, 2023).

Human Rights Abuses by Government Security Forces

Reports indicate that Cameroonian government security forces have engaged in human rights violations, often in areas where they are engaged in separatist clashes. Reportedly, “Security forces have perpetrated extrajudicial killings and widespread sexual and gender-based violence, burned Anglophone villages and subjected individuals with suspected separatist ties to arbitrary detention, torture and ill-treatment.” ²¹ Recently, members of the Cameroonian army killed three people and burned homes in Yer village and destroyed homes and shops in the city of Kumbo.²² Both attacks were believed to be retaliation for attacks on the military by armed separatists.²³ According to Amnesty International, “the response to the crisis from political and judicial authorities has, so far, involved further human rights violations. Instead of genuinely investigating crimes by armed separatists, authorities have accused certain individuals denouncing atrocities of being armed separatists or supporters and have arbitrarily arrested and detained them.” ²⁴ Investigations into human rights abuses by authorities appear rare and, when investigations are opened, proceedings are slow or public information is unavailable.²⁵

²¹ Cameroon, Global Center for the Responsibility to Protect, May 31, 2023, available at https://www.globalr2p.org/countries/cameroon/ (last visited July 3, 2023).

²² Cameroon: With or against us: People of the North-West region of Cameroon caught between the army, armed separatists and militias, Amnesty International, July 4, 2023, available at https://www.amnesty.org/en/documents/afr17/6838/2023/en/ (last visited July 13, 2023).

²³ Cameroon: With or against us: People of the North-West region of Cameroon caught between the army, armed separatists and militias, Amnesty International, July 4, 2023, available at https://www.amnesty.org/en/documents/afr17/6838/2023/en/ (last visited July 13, 2023).

²⁴ Cameroon: Rampant atrocities amid Anglophone regions must be stopped and investigated, Amnesty International, July 3, 2023, available at: https://www.amnestyusa.org/press-releases/cameroon-rampant-atrocities-amid-anglophone-regions-must-be-stopped-and-investigated/ (last visited September 25, 2023).

²⁵ Cameroon: With or against us: People of the North-West region of Cameroon caught between the army, armed separatists and militias, Amnesty International, July 4, 2023, available at https://www.amnesty.org/en/documents/afr17/6838/2023/en/ (last visited July 13, 2023).

Humanitarian Situation

The humanitarian situation in Cameroon is serious, with one out of every six people in Cameroon needing humanitarian assistance and protection, amounting to 4.7 million people.²⁶ An estimated 77 percent of the population in need of humanitarian assistance are women and children.²⁷ Moreover, an estimated 478,106 foreign nationals have sought refuge in Cameroon from other countries along with 645,746 other returnees and 1,066,254 internally displaced persons already in Cameroon.²⁸ Humanitarian access remains challenging, as armed groups hinder the movement of goods in the areas under their control, and aid workers have reported harassment from government authorities and denial of passage to areas in need.²⁹

²⁶ Cameroon Humanitarian Needs Overview 2023 (March 2023), Reliefweb, May 11, 2023, available at https://reliefweb.int/report/cameroon/cameroon-humanitarian-needs-overview-2023-march-2023#:~:text=In%202023%2C%20one%20out%20of,)%2C%20returnees%2C%20or%20refugees. (last visited July 3, 2023).

²⁷ Cameroon: Situation Report, OCHA, last updated June 7, 2023, available at https://reports.unocha.org/en/country/cameroon/ (last visited July 3, 2023).

²⁸ Cameroon Multi-Country Office: Refugees and Internally Displaced Persons, UNHCR, June 8, 2023, available at https://reliefweb.int/map/cameroon/cameroon-multi-country-office-refugees-and-internally-displaced-persons-figures-available-31-may-2023 (last visited June 30, 2023).

²⁹ U.S. Dep't of State, 2022 Country Reports on Human Rights Practices: Cameroon, May 21, 2023, available at https://www.state.gov/reports/2022-country-reports-on-human-rights-practices/cameroon/ (last visited July 3, 2023).

The ongoing regional crises, intercommunal violence, and floods have worsened food insecurity in recent years.³⁰ An estimated three million people in Cameroon are expected to face acute food insecurity in 2023.³¹ Additionally, the fastest increases in food prices since 2008 have exacerbated challenges in this area.³² Recent data indicates that the cost of food was 9.5 percent higher in the first quarter of 2023 than at the same time in 2022.³³

³⁰ Cameroon Food Security Outlook Update, June 2023-January 2024, Reliefweb, July 6, 2023, available at https://reliefweb.int/report/cameroon/cameroon-food-security-outlook-update-june-2023-january-2024 (last visited July 13, 2023).

³¹ Cameroon: Situation Report, OCHA, last updated June 7, 2023, available at https://reports.unocha.org/en/country/cameroon/ (last visited July 3, 2023).

³² Cameroon Crisis Response Plan 2023, International Organization for Migration, Jan. 19, 2023, available at https://crisisresponse.iom.int/response/cameroon-crisis-response-plan-2023 (last visited July 3, 2023).

³³ WFP Cameroon Operational Update—January-March 2023, Reliefweb, June 14, 2023, available at https://reliefweb.int/report/cameroon/wfp-cameroon-operational-update-january-march-2023 (last visited July 13, 2023).

Additionally, Cameroon is experiencing an outbreak of cholera. The number of reported cases had been relatively low but increased significantly in March 2023, and new cases have been reported in 29 of 58 districts nationwide.³⁴ More than 19,000 cases were reported between June 2022 and June 2023, including 1,880 confirmed cases and 450 recorded deaths.³⁵ A global cholera vaccine shortage is complicating prevention efforts.³⁶

³⁴ Cameroon: Increase in cholera cases, 1, ACAPS, June 29, 2023, available at https://www.acaps.org/fileadmin/Data_Product/Main_media/20230629_ACAPS_Briefing_note_Cameroon_increase_in_cholera_cases.pdf.

³⁵ Cameroon: Increase in cholera cases, 1, ACAPS, June 29, 2023, available at https://www.acaps.org/fileadmin/Data_Product/Main_media/20230629_ACAPS_Briefing_note_Cameroon_increase_in_cholera_cases.pdf.

³⁶ Cameroon: Increase in cholera cases, 1, ACAPS, June 29, 2023, available at https://www.acaps.org/fileadmin/Data_Product/Main_media/20230629_ACAPS_Briefing_note_Cameroon_increase_in_cholera_cases.pdf.

As of May 2023, there were more than one million internally displaced persons in Cameroon, concentrated primarily in and around the Anglophone regions and the Far North Region.³⁷ Boko Haram and ISWAP's attacks in the Far North have reportedly contributed to the internal displacement of over 378,000 people as of July 2022.³⁸ About 3,000 people were displaced in the Far North Region in March 2023 alone.³⁹

³⁷ Cameroon Multi-Country Office: Refugees and Internally Displaced Persons, UNHCR, June 8, 2023, available at https://reliefweb.int/map/cameroon/cameroon-multi-country-office-refugees-and-internally-displaced-persons-figures-available-31-may-2023 (last visited June 30, 2023).

³⁸ Cameroon: Events of 2022, Human Rights Watch, available at https://www.hrw.org/world-report/2023/country-chapters/cameroon (last visited July 3, 2023).

³⁹ Cameroon's Large-Scale Boko Harm Attacks Leave Thousands Homeless, VOA News, April 19. 2023, available at https://www.voanews.com/a/cameroon-s-large-scale-boko-haram-attacks-leave-thousands-homeless-/7057215.html (last visited July 6, 2023).

In summary, the ongoing armed conflict between Boko Haram, ISWAP, and the Government of Cameroon alongside extraordinary and temporary conditions, including the secessionist crisis, has led to significant civilian casualties and major disruptions in security and stability. This has also contributed to other extraordinary and temporary conditions that prevent Cameroonian nationals from returning to Cameroon in safety, namely the current humanitarian crisis, including human rights abuses, food insecurity, spread of disease, and mass displacement.

Based upon this review and after consultation with appropriate U.S. Government agencies, the Secretary has determined that:

• The conditions supporting Cameroon's designation for TPS continue to be met. See INA section 244(b)(3)(A) and (C), 8 U.S.C. 1254a(b)(3)(A) and (C).

• There continues to be an ongoing armed conflict in the Far North region of Cameroon and, due to such conflict, requiring the return to Cameroon of Cameroonian nationals (or individuals having no nationality who last habitually resided in Cameroon) would pose a serious threat to their personal safety. See INA section 244(b)(1)(A), 8 U.S.C. 1254a(b)(1)(A).

• There continue to be extraordinary and temporary conditions in Cameroon that prevent Cameroonian nationals (or individuals having no nationality who last habitually resided in Cameroon) from returning to Cameroon in safety, and it is not contrary to the national interest of the United States to permit Cameroonian TPS beneficiaries to remain in the United States temporarily. See INA section 244(b)(1)(C), 8 U.S.C. 1254a(b)(1)(C).

• The designation of Cameroon for TPS should be extended for an 18-month period, beginning on December 8, 2023, and ending on June 7, 2025. See INA section 244(b)(3)(C), 8 U.S.C. 1254a(b)(3)(C).

• Due to the conditions described above, Cameroon should be simultaneously extended and redesignated for TPS beginning on December 8, 2023, and ending on June 7, 2025. See INA 244(b)(1)(A) and (C) and (b)(2), 8 U.S.C. 1254a(b)(1)(A) and (C) and (b)(2).

• For the redesignation, the Secretary has determined that TPS applicants must demonstrate that they have continuously resided in the United States since October 5, 2023.

• Initial TPS applicants under the redesignation must demonstrate that they have been continuously physically present in the United States since December 8, 2023, the effective date of the redesignation of Cameroon for TPS.

• There are approximately 2,090 current Cameroon TPS beneficiaries who are expected to be eligible to re-register for TPS under the extension.

• It is estimated that approximately 7,900 additional individuals may be eligible for TPS under the redesignation of Cameroon. This population includes Cameroonian nationals in the United States in nonimmigrant status or without immigration status.

Notice of the Designation of Cameroon for TPS

By the authority vested in me as Secretary under INA section 244, 8 U.S.C. 1254a, I have determined, after consultation with the appropriate U.S. Government agencies, the statutory conditions supporting Cameroon's designation for TPS on the basis of ongoing armed conflict and extraordinary and temporary conditions are met and it is not contrary to the national interest of the United States to permit Cameroonian TPS beneficiaries to remain in the United States temporarily. See INA section 244(b)(1)(A) and (C), 8 U.S.C. 1254a(b)(1)(A) and (C). On the basis of this determination, I am simultaneously extending the existing designation of Cameroon for TPS for 18 months, beginning on December 8, 2023, and ending on June 7, 2025, and redesignating Cameroon for TPS for the same 18-month period. See INA section 244(b)(1)(A) and (C) and (b)(2); 8 U.S.C. 1254a(b)(1)(A) and (C) and (b)(2).

Alejandro N. Mayorkas,
Secretary, U.S. Department of Homeland Security.

Eligibility and Employment Authorization for TPS

Required Application Forms and Application Fees To Register or Re-Register for TPS

To register for TPS based on the designation of Cameroon, you must submit a Form I-821, Application for Temporary Protected Status, and pay the filing fee (or request a fee waiver, which you may submit on Form I-912, Request for Fee Waiver). You may be required to pay the biometric services fee. If you can demonstrate an inability to pay the biometric services fee, you may request to have the fee waived. Please see additional information under the “Biometric Services Fee” section of this notice.

TPS beneficiaries are eligible for an Employment Authorization Document (EAD), which proves their authorization to work in the United States. You are not required to submit Form I-765, Application for Employment Authorization, or have an EAD to be granted TPS, but see below for more information if you want an EAD to use as proof that you can work in the United States.

Individuals who have a Cameroon TPS application (Form I-821) that was still pending as of October 10, 2023 do not need to file the application again. If USCIS approves an individual's Form I-821, USCIS will grant the individual TPS through June 7, 2025.

For more information on the application forms and fees for TPS, please visit the USCIS TPS web page at https://www.uscis.gov/tps. Fees for the Form I-821, the Form I-765, and biometric services are also described in 8 CFR 103.7(b)(1) (Oct. 1, 2020). In addition, the form instructions for the Form I-821 and Form I-765 provide further information on requirements and fees for both initial TPS applicants and existing TPS beneficiaries who are re-registering.

How can TPS beneficiaries obtain an Employment Authorization Document (EAD)?

Everyone must provide their employer with documentation showing that they have the legal right to work in the United States. TPS beneficiaries are eligible to obtain an EAD, which proves their legal right to work. Those who want to obtain an EAD must file a Form I-765 and pay the Form I-765 fee (or request a fee waiver, which you may submit on Form I-912, Request for Fee Waiver). TPS applicants may file this form along with their TPS application, or at a later date, provided their TPS application is still pending or has been approved. Beneficiaries with a Cameroonian TPS-related Form I-765 that was still pending as of October 10, 2023 do not need to file the application again. If USCIS approves a pending TPS-related Form I-765, USCIS will issue the individual a new EAD that will be valid through June 7, 2025.

Refiling an Initial TPS Registration Application After Receiving a Denial of a Fee Waiver Request

If USCIS denies your fee waiver request, you can resubmit your TPS application. The fee waiver denial notice will contain specific instructions about resubmitting your application.

Filing Information

USCIS offers the option to applicants for TPS under Cameroon's designation to file Form I-821 and related requests for EADs online or by mail. When filing a TPS application, applicants can also request an EAD by submitting a completed Form I-765, with their Form I-821.

Online filing: Forms I-821 and I-765 are available for concurrent filing online.⁴⁰ To file these forms online, you must first create a USCIS online account.⁴¹ However, if you are requesting a fee waiver, you cannot submit the applications online. You will need to file paper versions of the fee waiver request and the form for which you are requesting the fee waiver.

⁴⁰ Find information about online filing at “Forms Available to File Online,” https://www.uscis.gov/file-online/forms-available-to-file-online.

⁴¹ https://myaccount.uscis.gov/users/sign_up.

Mail filing: Mail your application for TPS to the proper address in Table 1.

Table 1—Mailing Addresses

Mail your completed Form I-821, Application for Temporary Protected Status; Form I-765, Application for Employment Authorization, if applicable; Form I-912, Request for Fee Waiver (if applicable); and supporting documentation to the proper address in Table 1.

Table 1—Mailing Addresses
All States, Territories, and District of Columbia | U.S. Postal Service (USPS): USCIS, Attn: TPS Cameroon, P.O. Box 4091, Carol Stream, IL 60197-4091.
| FedEx, UPS, and DHL deliveries: USCIS, Attn: TPS Cameroon (Box 4091), 2500 Westfield Drive, Elgin, IL 60124-7836.

If you were granted TPS by an immigration judge (IJ) or the Board of Immigration Appeals (BIA) and you wish to request an EAD, please mail your Form I-765 application to the appropriate mailing address in Table 1. When you are requesting an EAD based on an IJ/BIA grant of TPS, please include a copy of the IJ or BIA order granting you TPS with your application. This will help us verify your grant of TPS and process your application.

Supporting Documents

The filing instructions on the Form I-821 list all the documents needed to establish eligibility for TPS. You may also find information on the acceptable documentation and other requirements for applying (i.e., registering) for TPS on the USCIS website at https://www.uscis.gov/tps under “Cameroon.”

Travel

TPS beneficiaries may also apply for and be granted travel authorization as a matter of discretion. You must file for travel authorization if you wish to travel outside of the United States. If granted, travel authorization gives you permission to leave the United States and return during a specific period. To request travel authorization, you must file Form I-131, Application for Travel Document, available at https://www.uscis.gov/i-131. You may file Form I-131 together with your Form I-821 or separately. When filing the Form I-131, you must:

• Select Item Number 1.d. in Part 2 on the Form I-131; and

• Submit the fee for the Form I-131, or request a fee waiver, which you may submit on Form I-912, Request for Fee Waiver.

If you are filing Form I-131 together with Form I-821, send your forms to the address listed in Table 1. If you are filing Form I-131 separately based on a pending or approved Form I-821, send your form to the address listed in Table 2 and include a copy of Form I-797 for the approved or pending Form I-821.

Table 2—Mailing Addresses
If you are . . . | Mail to . . .
Filing Form I-131 together with a Form I-821, Application for Temporary Protected Status | The address provided in Table 1.
Filing Form I-131 based on a pending or approved Form I-821, and you are using the U.S. Postal Service (USPS): You must include a copy of the receipt notice (Form I-797 or I-797C) showing we accepted or approved your Form I-821 | USCIS, Attn: I-131 TPS, P.O. Box 660167, Dallas, TX 75266-0867.
Filing Form I-131 based on a pending or approved Form I-821, and you are using FedEx, UPS, or DHL: You must include a copy of the receipt notice (Form I-797 or I-797C) showing we accepted or approved your Form I-821 | USCIS, Attn: I-131 TPS, 2501 S. State Hwy. 121 Business, Ste. 400, Lewisville, TX 75067.

Biometric Services Fee for TPS

Biometrics (such as fingerprints) are required for all applicants 14 years of age and older. Those applicants must submit a biometric services fee. As previously stated, if you are unable to pay the biometric services fee, you may request a fee waiver, which you may submit on Form I-912, Request for Fee Waiver. For more information on the application forms and fees for TPS, please visit the USCIS TPS web page at https://www.uscis.gov/tps. If necessary, you may be required to visit an Application Support Center to have your biometrics captured. For additional information on the USCIS biometric screening process, please see the USCIS Customer Profile Management Service Privacy Impact Assessment, available at https://www.dhs.gov/publication/dhsuscispia-060-customer-profile-management-service-cpms.

General Employment-Related Information for TPS Applicants and Their Employers

How can I obtain information on the status of my TPS application and EAD request?

To get case status information about your TPS application, as well as the status of your TPS-based EAD request, you can check Case Status Online at uscis.gov, or visit the USCIS Contact Center at https://www.uscis.gov/contactcenter. If your Form I-765 has been pending for more than 90 days, and you still need assistance, you may ask a question about your case online at https://egov.uscis.gov/e-request/Intro.do or call the USCIS Contact Center at 800-375-5283 (TTY 800-767-1833).

Am I eligible to receive an automatic extension of my current EAD through December 7, 2024, through this Federal Register notice?

Yes. Regardless of your country of birth, provided that you currently have a Cameroon TPS-based EAD that has the notation A-12 or C-19 under Category and a “Card Expires” date of December 7, 2023, this Federal Register notice automatically extends your EAD through December 7, 2024. Although this Federal Register notice automatically extends your EAD through December 7, 2024, you must re-register timely for TPS in accordance with the procedures described in this Federal Register notice to maintain your TPS and employment authorization.

When hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. Employers may not reject a document based on a future expiration date. You can find additional information about Form I-9 on the I-9 Central web page at https://www.uscis.gov/I-9Central. An EAD is an acceptable document under List A. See the section “How do my employer and I complete Form I-9 using my automatically extended EAD for a new job?” of this Federal Register notice for further information. If your EAD states A-12 or C-19 under Category and has a “Card Expires” date of December 7, 2023, it has been extended automatically by virtue of this Federal Register notice and you may choose to present your EAD to your employer as proof of identity and employment eligibility for Form I-9 through December 7, 2024, unless your TPS has been withdrawn or your request for TPS has been denied. Your country of birth notated on the EAD does not have to reflect the TPS designated country of Cameroon for you to be eligible for this extension.

What documentation may I present to my employer for Form I-9 if I am already employed but my current TPS-related EAD is set to expire?

Even though we have automatically extended your EAD, your employer is required by law to ask you about your continued employment authorization. Your employer may need to re-examine your automatically extended EAD to check the “Card Expires” date and Category code if your employer did not keep a copy of your EAD when you initially presented it. Once your employer has reviewed the Card Expiration date and Category code, your employer should update the EAD expiration date in Section 2 of Form I-9. See the section “What updates should my current employer make to Form I-9 if my EAD has been automatically extended?” of this Federal Register notice for further information. You may show this Federal Register notice to your employer to explain what to do for Form I-9 and to show that USCIS has automatically extended your EAD through December 7, 2024, but you are not required to do so. The last day of the automatic EAD extension is December 7, 2024. Before you start work on December 8, 2024, your employer is required by law to reverify your employment authorization on Form I-9. By that time, you must present any document from List A or any document from List C on Form I-9 Lists of Acceptable Documents, or an acceptable List A or List C receipt described in the Form I-9 instructions to reverify employment authorization.

Your employer may not specify which List A or List C document you must present and cannot reject an acceptable receipt.

If I have an EAD based on another immigration status, can I obtain a new TPS-based EAD?

Yes, if you are eligible for TPS, you can obtain a new TPS-based EAD, regardless of whether you have an EAD or work authorization based on another immigration status. If you want to obtain a new TPS-based EAD valid through June 7, 2025, then you must file Form I-765, Application for Employment Authorization, and pay the associated fee (unless USCIS grants your fee waiver request).

Can my employer require that I provide any other documentation such as evidence of my status or proof of my Cameroonian citizenship or a Form I-797C showing that I registered for TPS for Form I-9 completion?

No. When completing Form I-9, employers must accept any documentation you choose to present from the Form I-9 Lists of Acceptable Documents that reasonably appears to be genuine and that relates to you, or an acceptable List A, List B, or List C receipt. Employers may not request other documentation, such as proof of Cameroonian citizenship or proof of registration for TPS when completing Form I-9 for new hires or reverifying the employment authorization of current employees. If you present an EAD that USCIS has automatically extended, employers should accept it as a valid List A document so long as the EAD reasonably appears to be genuine and to relate to you. Refer to the “Note to Employees” section of this Federal Register notice for important information about your rights if your employer rejects lawful documentation, requires additional documentation, or otherwise discriminates against you based on your citizenship or immigration status, or your national origin.

How do my employer and I complete Form I-9 using my automatically extended EAD for a new job?

When using an automatically extended EAD to complete Form I-9 for a new job before December 8, 2024:

1. For Section 1, you should:

a. Check “A noncitizen authorized to work until” and enter December 7, 2024, as the “expiration date”; and

b. Enter your USCIS number or A-Number where indicated. (Your EAD or other document from DHS will have your USCIS number or A-Number printed on it; the USCIS number is the same as your A-Number without the A prefix.)

2. For Section 2, employers should:

a. Determine if the EAD is auto-extended by ensuring it is in category A-12 or C-19 and has a “Card Expires” date of December 7, 2023;

b. Write in the document title;

c. Enter the issuing authority;

d. Provide the document number; and

e. Write December 7, 2024, as the expiration date.

Before the start of work on December 8, 2024, employers must reverify the employee's employment authorization on Form I-9.

What updates should my current employer make to Form I-9 if my EAD has been automatically extended?

If you presented a TPS-related EAD that was valid when you first started your job and USCIS has now automatically extended your EAD, your employer may need to re-examine your current EAD if they do not have a copy of the EAD on file. Your employer should determine if your EAD is automatically extended by ensuring that it contains Category A-12 or C-19 and has a “Card Expires” date of December 7, 2023. Your employer may not rely on the country of birth listed on the card to determine whether you are eligible for this extension.

If your employer determines that USCIS has automatically extended your EAD, your employer should update Section 2 of your previously completed Form I-9 as follows:

1. Write EAD EXT and December 7, 2024, as the last day of the automatic extension in the Additional Information field; and

2. Initial and date the correction.

Note: This is not considered a reverification. Employers do not reverify the employee until either the automatic extension has ended, or the employee presents a new document to show continued employment authorization, whichever is sooner. By December 8, 2024, when the employee's automatically extended EAD has expired, employers are required by law to reverify the employee's employment authorization on Form I-9.

If I am an employer enrolled in E-Verify, how do I verify a new employee whose EAD has been automatically extended?

Employers may create a case in E-Verify for a new employee by entering the number from the Document Number field on Form I-9 into the document number field in E-Verify. Employers should enter December 7, 2024, as the expiration date for an EAD that has been extended under this Federal Register notice.

If I am an employer enrolled in E-Verify, what do I do when I receive a “Work Authorization Documents Expiring” alert for an automatically extended EAD?

E-Verify automated the verification process for TPS-related EADs that are automatically extended. If you have employees who provided a TPS-related EAD when they first started working for you, you will receive a “Work Authorization Documents Expiring” case alert when the auto-extension period for this EAD is about to expire. Before this employee starts work on December 8, 2024, you must reverify their employment authorization on Form I-9. Employers may not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov or get more information online at www.justice.gov/ier.

Note to Employees

For general questions about the employment eligibility verification process, employees may call USCIS at 888-897-7781 (TTY 877-875-6028) or email USCIS at I-9Central@uscis.dhs.gov. USCIS accepts calls in English, Spanish and many other languages. Employees or job applicants may also call the U.S. Department of Justice, Civil Rights Division, Immigrant and Employee Rights Section (IER) Worker Hotline at 800-255-7688 (TTY 800-237-2515) for information regarding employment discrimination based on citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of “Tentative Nonconfirmation” (mismatch) must promptly inform employees of the mismatch and give such employees an opportunity to take action to resolve the mismatch. A mismatch means that the information entered into E-Verify from Form I-9 differs from records available to DHS.

Employers may not terminate, suspend, delay training, withhold or lower pay, or take any adverse action against an employee because of a mismatch while the case is still pending with E-Verify. A Final Nonconfirmation (FNC) case result is received when E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS and E-Verify websites at https://www.uscis.gov/i-9-central and https://www.e-verify.gov.

Note Regarding Federal, State, and Local Government Agencies (Such as Departments of Motor Vehicles)

For Federal purposes, if you present an automatically extended EAD referenced in this Federal Register notice, you do not need to show any other document, such as a Form I-797C, Notice of Action reflecting receipt of a Form I-765 EAD renewal application or this Federal Register notice, to prove that you qualify for this extension. While Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary, show you are authorized to work based on TPS or other status, or that may be used by DHS to determine if you have TPS or another immigration status. Examples of such documents are:

• Your current EAD with a TPS category code of A-12 or C-19, even if your country of birth noted on the EAD does not reflect the TPS designated country of Cameroon;

• Your Form I-94, Arrival/Departure Record;

• Your Form I-797, Notice of Action, reflecting approval of your Form I-765; or

• Form I-797 or Form I-797C, Notice of Action, reflecting approval or receipt of a past or current Form I-821, if you received one from USCIS.

Check with the government agency requesting documentation regarding which document(s) the agency will accept. Some state and local government agencies use the SAVE program to confirm the current immigration status of applicants for public benefits.

While SAVE can verify that an individual has TPS, each agency's procedures govern whether they will accept an unexpired EAD, Form I-797, Form I-797C, or Form I-94, Arrival/Departure Record. If an agency accepts the type of TPS-related document you present, such as an EAD, the agency should accept your automatically extended EAD, regardless of the country of birth listed on the EAD. It may assist the agency if you:

a. Give the agency a copy of the relevant Federal Register notice showing the extension of TPS-related documentation in addition to your recent TPS-related document with your A-number, USCIS number, or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but occasionally verification can be delayed.

You can check the status of your SAVE verification by using CaseCheck at https://save.uscis.gov/casecheck/. CaseCheck is a free service that lets you follow the progress of your SAVE verification case using your date of birth and one immigration identifier number (such as A-number, USCIS number, or Form I-94 number) or Verification Case Number. If an agency has denied your application based solely or in part on a SAVE response, the agency must offer you the opportunity to appeal the decision in accordance with the agency's procedures. If the agency has received and acted on or will act on a SAVE verification and you do not believe the SAVE response is correct, the SAVE website, https://www.uscis.gov/save, has detailed information on how to make corrections or update your immigration record, make an appointment, or submit a written request to correct records.

[FR Doc. 2023-22375 Filed 10-6-23; 8:45 am]

BILLING CODE 9111-97-P